DEPARTMENT OF COMMERCE

National Oceanic and Atmospheric Administration

[RTID 0648-XD698]

Pacific Island Pelagic Fisheries; False Killer Whale Take Reduction Plan; New Trigger Value for Southern Exclusion Zone Closure

AGENCY: National Marine Fisheries Service (NMFS), National Oceanic and Atmospheric Administration (NOAA), Commerce.

ACTION: Notice.

SUMMARY: In accordance with the Marine Mammal Protection Act (MMPA) of 1972, and the False Killer Whale Take Reduction Plan, NMFS is publishing a new trigger value for the Southern Exclusion Zone (SEZ) closure. The new trigger is three observed mortality or serious injuries of false killer whales incidental to the deep-set longline fishery within the U.S. Exclusive Economic Zone.

FOR FURTHER INFORMATION CONTACT: Elena Duke, NMFS Pacific Islands Region, (808) 725-5134, elena.duke@noaa.gov; or Kristy Long, NMFS Office of Protected Resources, (301) 427-8402, Kristy.Long@noaa.gov.

SUPPLEMENTARY INFORMATION:

Background

Pursuant to section 118(f) of the MMPA, on December 31, 2012, NMFS implemented the False Killer Whale Take Reduction Plan (Plan). The Plan establishes a framework to reduce the level of incidental mortality and serious injury (M/SI) of the Hawaii pelagic and Hawaii insular stocks of false killer whales in the Hawaii longline fisheries (77 FR 71260; November 29, 2012).

In accordance with the Plan, NMFS issued regulations to establish the SEZ (50 CFR 229.37(d)(2)). These regulations require NMFS to close the SEZ to deep-set longline fishing when a certain number (trigger) of false killer whale M/SI are observed in the deep-set longline fishery in the U.S. Exclusive Economic Zone (EEZ). As described in the Plan regulations, the SEZ is bounded on the east at 154°30′ W longitude, on the west at 165° W longitude, on the north by the boundaries of the Main Hawaiian Islands Longline Fishing Prohibited Area and Papahānaumokuākea Marine National Monument, and on the south by the EEZ boundary (see fig. 1). The SEZ trigger is defined in § 229.37(e)(2) as the larger of either of these 2 values: (i) 2 observed M/SI of false killer whales within the EEZ around Hawaii, or (ii) the smallest number of observed false killer whale M/SI that, when extrapolated based on the percentage observer coverage in the deep-set longline fishery for that year, exceeds the Hawaii pelagic false killer whale stock's potential biological removal (PBR). For the first year of the Plan's implementation, NMFS established the trigger value as 2 observed false killer whale M/SI by the deep-set longline fishery within the EEZ around Hawaii (77 FR 71259, November 29, 2012), based on the PBR level of 9.1 for the Hawaii pelagic stock of false killer whales, as calculated in the draft 2012 Stock Assessment Report (SAR) (Carretta et al., 2012). The Plan specifies the trigger value (2) will remain valid until NMFS publishes a new trigger value in the Federal Register (§ 229.37(e)(1)). NMFS published a new trigger value on December 15, 2020 following a change in the abundance estimate, which changed the trigger value from 2 to 4 observed M/SI of false killer whales (85 FR 81184, December 15, 2020).

NMFS set the annual observer coverage rate in the Hawaii deep-set longline fishery for 2024 at 13.5 percent. Observer coverage was previously set at 20 percent, but has been reduced due to increased program costs and available funding for the observer program. The abundance estimate for the Hawaii pelagic stock of false killer whales is 2,086 (CV = 0.35) individuals in the Hawaii EEZ. The minimum population abundance (Nmin), used for calculating PBR, is 1,567 animals within the EEZ around Hawaii.¹ The PBR published in the final 2022 SAR for this stock within the EEZ is calculated as 16 pelagic false killer whales (Carretta et al., 2023). Based on the current published PBR of 16 whales for the Hawaii pelagic stock of false killer whales within the EEZ, and the 2024 annual observer coverage (13.5 percent), the trigger value is calculated as 3 observed M/SI of false killer whales. This value is smaller than the currently published trigger value because of the decrease in the observer coverage rate. Therefore, NMFS sets the trigger value for SEZ closure at three observed false killer whale M/SI in the deep-set longline fishery in the EEZ around Hawaii.

¹ At a March 2023 False Killer Whale Take Reduction Team meeting, NMFS introduced a False Killer Whale Management Area that included areas inside and outside the EEZ around Hawaii with a PBR calculated to be 33 pelagic false killer whales. The False Killer Whale Management Area and associated PBR are not yet available for current management use. NMFS is using the PBR (16) from the 2022 final SAR to revise the SEZ trigger.

Information on the Plan is available on the internet at the following address: https://www.fisheries.noaa.gov/national/marine-mammal-protection/false-killer-whale-take-reduction. Copies of reference materials may also be obtained from the NMFS Pacific Islands Regional Office, Protected Resources Division, 1845 Wasp Blvd., Building 176, Honolulu, HI 96818.

This notice serves as a notification to fishermen, the fishing industry, and the general public that the SEZ closure trigger value is three observed false killer whale M/SI in the deep-set longline fishery in the EEZ around Hawaii.

References

Carretta, J.V., E. Oleson, D.W. Weller, A.R. Lang, K.A. Forney, J. Baker, B. Hanson, K Martien, M.M. Muto, M.S. Lowry, J. Barlow, D. Lynch, L. Carswell, R.L. Brownell Jr., D.K. Mattila, and M.C. Hill. 2012. U.S. Pacific Marine Mammal Stock Assessments: 2012. NOAA Technical Memorandum NOAA-TM-NMFS-SWFSC-504. 378p.

Carretta, J.W., E.M. Oleson, K.A. Forney, M.M. Muto, D.W. Weller, A.R. Lang, J. Baker, B. Hanson, A.J. Orr, J. Barlow, J.E. Moore, and R.L. Brownell. 2023. U.S. Pacific Marine Mammal Stock Assessments: 2022. U.S. Department of Commerce. NOAA Technical Memorandum NMFS-SWFSC-684. 409 p.

Authority: 16 U.S.C. 1361 et seq.

Dated: February 16, 2024.
Samuel D. Rauch, III,
Deputy Assistant Administrator for Regulatory Programs, National Marine Fisheries Service.

[FR Doc. 2024-03664 Filed 2-22-24; 8:45 am]

BILLING CODE 3510-22-P